DEPARTMENT OF DEFENSE

Department of the Army

[Docket ID: USA-2013-0035]

Proposed Collection; Comment Request

AGENCY: Office of the Administrative Assistant to the Secretary of the Army, DoD.

ACTION: Notice.

SUMMARY: In compliance with the Paperwork Reduction Act of 1995, the Office of the Administrative Assistant to the Secretary of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 24, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the US Army Public Health Command, 5158 Blackhawk Road, ATTN: Chris Weir, MCHB-CS-PMO, Building E1930, Aberdeen Proving Ground, MD 21020-5403, or call the Department of the Army Reports Clearance Officer at (703) 428-6440.

SUPPLEMENTARY INFORMATION: Title; Associated Form; and OMB Number: Army Public Health Data Repository (APHDR), OMB Control Number 0702-TBD.

Needs and Uses: The Army Public Health Data Repository provides a system of records that will integrate medical information from non-related and dispersed databases into a comprehensive health surveillance database. It will support operational public health practices and maintain a record of work places, training, exposures (occupational and environmental), medical surveillance, ergonomic recommendations, corrections and any medical care provided for eligible individuals.

Affected Public: Federal Government.

Annual Burden Hours: 82.

Number of Respondents: 41.

Responses per Respondent: 12.

Average Burden per Response: 10 minutes.

Frequency: On occasion.

The Army Regulation 40-5, Preventive Medicine, designates the US Army Public Health Command (USAPHC) and the Army Institute of Public Health (AIPH) as the Army's public health authority. The data will only be available to those within the USAPHC and AIPH with a need to know. Those individuals will use the information for the purpose of preventing or controlling disease, injury, or disability, including, but not limited to, the reporting of disease, injury, vital events, such as births or death, and the conduct of public health surveillance, public health investigations, and public health interventions. The information collection will be maintained electronically and solely within the local area network of the USAPHC and AIPH.

Dated: October 21, 2013.
Aaron Siegel,
Alternate OSD Federal Register Liaison Officer, Department of Defense.

[FR Doc. 2013-25026 Filed 10-24-13; 8:45 am]

BILLING CODE 5001-06-P